ENVIRONMENTAL PROTECTION AGENCY

[EPA-HQ-OPPT-2023-0061; FRL-10581-14-OCSPP]

Significant New Use Notices (SN-23-0002 Through 0006 and SN-23-0008 Through 0011); Extension of Review Period

AGENCY: Environmental Protection Agency (EPA).

ACTION: Notice.

SUMMARY: This document announces the extension of the review periods for significant new use notices (SNUNs) identified as SN-23-0002 through 0006 and SN-23-0008 through 0011 submitted to the Environmental Protection Agency (EPA) under the Toxic Substances Control Act (TSCA). EPA has determined that an extension of the statutory 90-day review periods for these SNUNs is necessary to allow the Agency to complete the required analysis under TSCA, investigate potential risk, examine regulatory options, and prepare the necessary documents should the Agency determine that further regulatory action is required.

DATES: The review periods are extended to February 28, 2024.

FOR FURTHER INFORMATION CONTACT:

For technical information contact: Jim Alwood, Acting Chief, Risk Management Branch 1, New Chemicals Division (7405), Office of Pollution Prevention and Toxics, Environmental Protection Agency, 1200 Pennsylvania Ave, NW, Washington, DC 20460-0001; telephone number: (202) 564-8974; email address: alwood.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the chemical manufacturing company that submitted the SNUNs. This action may also be of interest to persons concerned about health, environmental, and/or economic aspects of the significant new uses of the chemical substances. Since other entities may also be interested, the Agency has not attempted to describe all the specific entities that may be affected by this action.

B. How can I access the docket?

The docket for this action, identified by docket identification (ID) number EPA-HQ-OPPT-2023-0061, is available online at https://www.regulations.gov or in-person at the Office of Pollution Prevention and Toxics Docket (OPPT Docket), Environmental Protection Agency Docket Center (EPA/DC), West William Jefferson Clinton Bldg., Rm. 3334, 1301 Constitution Ave, NW, Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at https://www.epa.gov/dockets.

C. What is EPA's authority for this action?

TSCA section 5(c), 15 U.S.C. 2604(c), and 40 CFR 720.75(c) authorize EPA to extend, for good cause, the 90-day SNUN review period for additional periods of time not to exceed in the aggregate 90 days. Examples of circumstances in which EPA may find good cause to extend the review period include, but are not limited to, EPA's request for additional information relating to a notice during the notice review period, EPA's receipt of additional information relating to a notice during the notice review period, and EPA's determination that there is a significant possibility that a significant new use of a chemical will be regulated under TSCA sections 5(e) or 5(f) and additional time is required for EPA to initiate the appropriate regulatory action.

D. What action is the Agency taking?

For the SNUNs identified in Unit II., EPA finds that there is good cause to extend the SNUN review periods. Based on the Agency's analysis to date, EPA has determined that extensions of the SNUN review periods are necessary to further investigate potential risk, examine regulatory options, and prepare the necessary documents, should regulatory action be required for the significant new uses of the chemical substances. Specifically, EPA received additional information and amendments to all nine of the notices during the review periods which required additional time for EPA to review and include in the assessment in order to determine and initiate the appropriate regulatory action.

II. What notices are subject to this extension?

On December 30, 2022, EPA received SNUNs SN-23-0002 through 0006 and SN-23-0008 through 0011 for significant new uses of the following existing chemical substances:

• Octanoic acid, 2,2,3,3,4,4,5,5,6,6,7,7,8,8,8-pentadecafluoro- (CASRN 335-67-1, SN-23-0002),

• Dodecanoic acid, 2,2,3,3,4,4,5,5,6,6,7,7,8,8,9,9,10,10,11,11,12,12,12-tricosafluoro- (CASRN 307-55-1, SN-23-0003),

• Nonanoic acid, 2,2,3,3,4,4,5,5,6,6,7,7,8,8,9,9,9-heptadecafluoro- (CASRN 375-95-1, SN-23-0004),

• Decanoic acid, 2,2,3,3,4,4,5,5,6,6,7,7,8,8,9,9,10,10,10-nonadecafluoro- (CASRN 335-76-2, SN-23-0005),

• Undecanoic acid, 2,2,3,3,4,4,5,5,6,6,7,7,8,8,9,9,10,10,11,11,11-heneicosafluoro- (CASRN 2058-94-8, SN-23-0006),

• Tetradecanoic acid, 2,2,3,3,4,4,5,5,6,6,7,7,8,8,9,9,10,10,11,11,12,12,13,13,14,14,14-heptacosafluoro- (CASRN 376-06-7, SN-23-0008),

• Tridecanoic acid, 2,2,3,3,4,4,5,5,6,6,7,7,8,8,9,9,10,10,11,11,12,12,13,13,13-pentacosafluoro- (CASRN 72629-94-8, SN-23-0009),

• Hexadecanoic acid, 2,2,3,3,4,4,5,5,6,6,7,7,8,8,9,9,10,10,11,11,12,12,13,13,14,14,15,15,16,16,16-hentriacontafluoro- (CASRN 67905-19-5, SN-23-0010), and

• Octadecanoic acid, 2,2,3,3,4,4,5,5,6,6,7,7,8,8,9,9,10,10,11,11,12,12,13,13,14,14,15,15,16,16,17,17,18,18,18-pentatriacontafluoro- (CASRN 16517-11-6, SN-23-0011).

The submitter claimed specific use information, process information, and other information to be CBI.

The notice of receipt for these SNUNs published in the Federal Register of February 17, 2023 (88 FR 10320) (FRL-10581-01-OCSPP). The SNUN review periods that were voluntarily suspended by the SNUN submitter with EPA's agreement would have expired on November 30, 2023. With this notice, the review periods are being extended to February 28, 2024.

Authority: 15 U.S.C. 2601 et seq.

Dated: November 28, 2023.
Michal Freedhoff,
Assistant Administrator, Office of Chemical Safety and Pollution Prevention.

[FR Doc. 2023-26534 Filed 11-30-23; 8:45 am]

BILLING CODE 6560-50-P